DEPARTMENT OF TRANSPORTATION

Federal Railroad Administration

49 CFR Parts 200, 201, 209, 211, 212, 214, 215, 216, 219, 221, 224, 227, 228, 229, 230, 232, 235, 236, 238, 239, 240, 241, 244, 245, 256, 260, and 268

[Docket No. FRA-2008-0128]

RIN 2130-AB99

Amendments Updating the Address for the Federal Railroad Administration and Reflecting the Migration to the Federal Docket Management System

AGENCY: Federal Railroad Administration (FRA), Department of Transportation (DOT).

ACTION: Final rule.

SUMMARY: FRA is amending a number of its regulations to update the address of the physical headquarters of FRA and the U.S. DOT in Washington, DC. FRA is also amending references to the Central Docket Management System (DMS) to reflect DOT's migration to the Federal Docket Management System (FDMS). This rule also modifies requirements for submitting petitions to the Railroad Safety Board, to make the requirements consistent with current FRA practice. Lastly, this rule updates outdated authority citations and removes parts for which authority no longer exists.

DATES: Effective May 27, 2009.

FOR FURTHER INFORMATION CONTACT: Elizabeth A. Gross, Trial Attorney, Office of Chief Counsel, FRA, 1200 New Jersey Avenue, SE., Mail Stop 10, Washington, DC 20590 (telephone 202-493-1342), elizabeth.gross@dot.gov.

SUPPLEMENTARY INFORMATION: In December 2007, FRA moved its offices to the new U.S. DOT Headquarters located at 1200 New Jersey Avenue, SE., Washington, DC 20590. This final rule updates 49 CFR subtitle B, chapter II to accurately reflect the new address of FRA and DOT. This address change only affects FRA offices previously located at 1120 Vermont Avenue, NW., Washington, DC 20590 and the DOT Headquarters previously located at 400 Seventh Street, SW., Washington, DC 20590. FRA offices located elsewhere are not affected. Additionally, on October 26, 2007, all data on DOT's Central Docket Management System migrated to the Federal Docket Management System. This rule amends outdated references to DOT's Docket Management System in order to accurately reflect DOT's conversion to the new docket system. This rule also changes requirements for submitting petitions to the Railroad Safety Board, to make clear that only one copy of a petition needs to be submitted instead of three, and that petitions should be submitted to the Docket Clerk instead of the Secretary of the Railroad Safety Board.

This rule also updates outdated authority citations that were either repealed or were from a prior version of the United States Code. It also removes part 201, “Formal Rules of Practice for Passenger Service,” which prescribed procedures for FRA consideration of proposals to increase speed or add trains pursuant to subsections 402(f) and (h) of the Rail Passenger Service Act of 1970, Public Law 91-518, 84 Stat. 1335. DOT's authority for this part was transferred to the Surface Transportation Board in section 213 of the Passenger Rail Investment and Improvement Act of 2008, Public Law 110-432, Div. B, 122 Stat. 4848 (2008). This rule also removes part 245, “Railroad User Fees” which imposed a schedule of fees on railroads to cover the costs incurred by FRA in administering the Federal Railroad Safety Act of 1970, Public Law 91-458, 84 Stat. 971. Under 49 U.S.C. 20115(e), the statutory authority for this part expired in 1995. Lastly, the rule removes the name of a former FRA Administrator.

Public Participation

This is a final rule and there has been no notice of proposed rulemaking or opportunity for public comment. The amendments are administrative in nature and merely correct outdated references and amend procedures for submitting petitions to the Railroad Safety Board. FRA is not exercising its discretion in a way that could be informed by public comment. As such, FRA finds that notice and public comment procedures are “impracticable, unnecessary, or contrary to the public interest” under 5 U.S.C. 553(b)(3)(B). For the same reasons, FRA has determined that there is good cause under 5 U.S.C. 553(d) for making these amendments effective upon publication.

Regulatory Impact

A. Executive Order 12866 and DOT Regulatory Policies and Procedures

This final rule has been evaluated in accordance with existing policies and procedures. It is not considered a significant regulatory action under Executive Order 12866 and was not reviewed by the Office of Management and Budget. This rule is also not significant under the Regulatory Policies and Procedures of the Department of Transportation (44 FR 11304). This rule merely updates outdated references to FRA's address and docket system, and makes de minimis changes to procedures for submitting petitions to the Railroad Safety Board. As such, the economic impact of this final rule is minimal and preparation of a regulatory evaluation is not warranted.

B. Executive Order 13132

This final rule has been analyzed in accordance with the principles and criteria contained in Executive Order 13132 (“Federalism”). This final rule does not have a substantial effect on the States, on the relationship between the national government and the States, or the distribution of power and responsibilities among the various levels of government. Therefore, preparation of a Federalism assessment under Executive Order 13132 is not warranted.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

FRA certifies that this final rule will not have a significant economic impact on a substantial number of small entities. This final rule only corrects outdated references to the address of FRA and DOT, updates references to DOT's docket system, and changes procedures for submitting petitions to the Railroad Safety Board.

E. Paperwork Reduction Act

This final rule contains no new information collection requirements under the Paperwork Reduction Act of 1995 (44 U.S.C. 3501-3520).

F. Compliance With the Unfunded Mandates Reform Act of 1995

This final rule will not result in the expenditure, in the aggregate, of $132,300,000 or more in any one year by State, local, or Indian Tribal governments, or the private sector, and thus preparation of a statement is not required.

G. Environmental Assessment

There are no significant environmental impacts associated with this final rule.

H. Energy Impact

According to definitions set forth in Executive Order 13211, there will be no significant energy action as a result of the issuance of this final rule.

List of Subjects

49 CFR Part 200

Administrative practice and procedure, Railroads.

49 CFR Part 201

Administrative practice and procedure, Railroads.

49 CFR Part 209

Administrative practice and procedure, Hazardous materials transportation, Penalties, Railroad safety, Reporting and recordkeeping requirements.

49 CFR Part 211

Administrative practice and procedure, Rules of practice.

49 CFR Part 212

Hazardous materials transportation, Intergovernmental relations, Investigations, Railroad safety.

49 CFR Part 214

Bridges, Occupational safety and health, Penalties, Railroad safety, Reporting and recordkeeping requirements.

49 CFR Part 215

Freight, Penalties, Railroad safety, Reporting and recordkeeping requirements.

49 CFR Part 216

Penalties, Railroad safety.

49 CFR Part 219

Alcohol abuse, Drug abuse, Drug testing, Penalties, Railroad safety, Reporting and recordkeeping requirements, Safety, Transportation.

49 CFR Part 221

Penalties, Railroad safety, Reporting and recordkeeping requirements.

49 CFR Part 224

Incorporation by reference, Penalties, Railroad locomotive safety, Railroad safety, Reporting and recordkeeping requirements.

49 CFR Part 227

Incorporation by reference, Locomotive noise control, Occupational safety and health, Penalties, Railroad safety, Reporting and recordkeeping requirements.

49 CFR Part 228

Penalties, Railroad employees, Reporting and recordkeeping requirements.

49 CFR Part 229

Penalties, Railroad safety, Reporting and recordkeeping requirements.

49 CFR Part 230

Penalties, Railroad safety, Reporting and recordkeeping requirements.

49 CFR Part 232

Penalties, Railroad safety, Reporting and recordkeeping requirements.

49 CFR Part 235

Administrative practice and procedure, Penalties, Railroad safety, Reporting and recordkeeping requirements.

49 CFR Part 236

Penalties, Railroad safety, Reporting and recordkeeping requirements.

49 CFR Part 238

Fire prevention, Penalties, Railroad safety, Reporting and recordkeeping requirements.

49 CFR Part 239

Penalties, Railroad safety, Reporting and recordkeeping requirements.

49 CFR Part 240

Administrative practice and procedure, Penalties, Railroad employees, Railroad safety, Reporting and recordkeeping requirements.

49 CFR Part 241

Communications, Penalties, Railroad safety, Reporting and recordkeeping requirements.

49 CFR Part 244

Administrative practice and procedure, Penalties, Railroad safety, Reporting and recordkeeping requirements.

49 CFR Part 245

Penalties, Railroad safety, Reporting and recordkeeping requirements.

49 CFR Part 256

Grant programs—transportation, Railroads, Reporting and recordkeeping requirements.

49 CFR Part 260

Loan programs—transportation, Railroads.

49 CFR Part 268

Grant programs—transportation, Railroads, Reporting and recordkeeping requirements.

The Final Rule

Accordingly, under 49 U.S.C. 20115(e) and for the reasons stated in the preamble, the Federal Railroad Administration amends 49 CFR subtitle B, chapter II as follows:

PART 200—INFORMAL RULES OF PRACTICE FOR PASSENGER SERVICE

1. The authority citation for part 200 is revised to read as follows:

Authority: Sec. 406 of Pub. L. 91-518, 84 Stat. 1327, as amended by sec. 10(2) of Pub. L. 93-146, 87 Stat. 548 and sec. 121 of Pub. L. 96-73, 93 Stat. 537 (49 U.S.C. 24309); 49 CFR 1.49.

§ 200.5 [Amended]

2. Section 200.5(a) is amended by removing the words “400 7th Street, SW.” and adding, in their place, the words “1200 New Jersey Avenue, SE.”.

PART 201—[REMOVED AND RESERVED]

3. Remove and reserve part 201, consisting of §§ 201.1 through 201.23.

PART 209—RAILROAD SAFETY ENFORCEMENT PROCEDURES

4. The authority citation for part 209 continues to read as follows:

Authority: 49 U.S.C. 5123, 5124, 20103, 20107, 20111, 20112, 20114; 28 U.S.C. 2461, note; and 49 CFR 1.49.

§§ 209.9 and 209.327 [Amended]

5. In 49 CFR part 209, remove the words “400 Seventh Street, SW.” and add, in their place, “1200 New Jersey Avenue, SE.” in the following places:

a. Section 209.9; and

b. Section 209.327(a).

PART 211—RULES OF PRACTICE

6. The authority citation for part 211 continues to read as follows:

Authority: 49 U.S.C. 20103, 20107, 20114, 20306, 20502-20504, and 49 CFR 1.49.

§§ 211.1, 211.5, 211.7, 211.45, 211.53, and 211.55 [Amended]

7. In the table below, for each section indicated in the left column, remove the words indicated in the middle column from wherever they appear in the section, and add the words indicated in the right column.

Section | Remove | Add
211.1(b)(4) | 1120 Vermont Avenue, NW | 1200 New Jersey Avenue, SE.
211.1(b)(4) | Department of Transportation Central Docket Management System, Nassif Building, Room Pl-401, 400 Seventh Street, SW | U.S. Department of Transportation, Docket Operations (M-30), West Building Ground Floor, Room W12-140, 1200 New Jersey Avenue, SE.
211.5(a)(1) | DOT Docket Management System | Federal Docket Management System.
211.5(a)(2)(i) | DOT Docket Management System, room Pl-401 (plaza level), 400 Seventh Street, SW | U.S. Department of Transportation, Docket Operations (M-30), West Building Ground Floor, Room W12-140, 1200 New Jersey Avenue, SE.
211.5(a)(2)(i) | Docket Management System | Federal Docket Management System.
211.5(a)(2)(ii) | http://dms.dot.gov | http://www.regulations.gov.
211.5(b) | seventh floor, 1120 Vermont Avenue | 1200 New Jersey Avenue, SE.
211.7(b)(2) | DOT Central Docket Management System | Federal Docket Management System.
211.7(b)(2) | Central Docket Management System | Federal Docket Management System.
211.7(b)(2) | http://dms.dot.gov | http://www.regulations.gov.
211.45(b) | DOT Document Management System (DMS) | Federal Docket Management System (FDMS).
211.45(b) | DMS | FDMS.
211.45(b) | http://dms.dot.gov | http://www.regulations.gov.
211.45(b) | DOT Docket Management Facility, Room PL-401 (Plaza Level), 400 7th Street, SW | U.S. Department of Transportation, Docket Operations (M-30), West Building Ground Floor, Room W12-140, 1200 New Jersey Avenue, SE.
211.45(f)(3) | 1120 Vermont Avenue, NW | 1200 New Jersey Avenue, SE.
211.45(g) | DMS | FDMS.
211.45(h) introductory text | DMS | FDMS.
211.45(h)(3) | DOT Docket Management Facility, Room PL-401 (Plaza Level), 400 7th Street, SW | U.S. Department of Transportation, Docket Operations (M-30), West Building Ground Floor, Room 12-140, 1200 New Jersey Avenue, SE.
211.45(h)(3) | http://dms.dot.gov | http://www.regulations.gov.
211.45(h)(3) | DOT DMS | FDMS.
211.45(i) | DMS | FDMS.
211.53 | in triplicate to the Secretary, Railroad Safety Board | in accordance with § 211.7.
211.55 | in triplicate to the Secretary, Railroad Safety Board | in accordance with § 211.7.
211.55 | Board | Railroad Safety Board.

§ 211.7 [Amended]

8. Section 211.7(b)(1) is further amended by removing the words “in triplicate”.

Appendix A to Part 211—[Amended]

9. Appendix A is amended by removing the words “1120 Vermont Ave., NW.” from paragraph I. and adding, in their place, “1200 New Jersey Avenue, SE.”.

PART 212—STATE SAFETY PARTICIPATION REGULATIONS

10. The authority citation for part 212 continues to read as follows:

Authority: 49 U.S.C. 20103, 20106, 20105, and 20113 (formerly secs. 202, 205, 206, and 208, of the Federal Railroad Safety Act of 1970, as amended (45 U.S.C. 431, 434, 435, and 436)); and 49 CFR 1.49.

§ 212.5 [Amended]

11. Section 212.5 is amended by removing the words “400 Seventh Street, SW.” and adding, in their place, “1200 New Jersey Avenue, SE.”.

PART 214—RAILROAD WORKPLACE SAFETY

12. The authority citation for part 214 continues to read as follows:

Authority: 49 U.S.C. 20103, 20107, 21301, 21304; 28 U.S.C. 2461, note; and 49 CFR 1.49.

§§ 214.113, 214.115, 214.117, and 214.307 [Amended]

13. In the table below, for each section indicated in the left column, remove the words indicated in the middle column from wherever they appear in the section, and add the words indicated in the right column:

Section | Remove | Add
214.113(b) | 1120 Vermont Avenue NW | 1200 New Jersey Avenue, SE.
214.115(b) | 1120 Vermont Avenue | 1200 New Jersey Avenue, SE.
214.117(b) | 1120 Vermont Avenue | 1200 New Jersey Avenue, SE.
214.307(a) | 400 Seventh Street, SW | 1200 New Jersey Avenue, SE.

PART 215—RAILROAD FREIGHT CAR SAFETY STANDARDS

14. The authority citation for part 215 continues to read as follows:

Authority: 49 U.S.C. 20103, 20107; 28 U.S.C. 2461, note; and 49 CFR 1.49.

§ 215.203 [Amended]

15. Section 215.203(c)(2) is amended by removing the words “in triplicate”.

PART 216—SPECIAL NOTICE AND EMERGENCY ORDER PROCEDURES: RAILROAD TRACK, LOCOMOTIVE AND EQUIPMENT

16. The authority citation for part 216 continues to read as follows:

Authority: 49 U.S.C. 20102-20104, 20107, 20111, 20133, 20701-20702, 21301-21302, 21304; 28 U.S.C. 2461, note; and 49 CFR 1.49.

§ 216.5 [Amended]

17. Section 216.5(b) is amended by removing the words “in triplicate”.

PART 219—CONTROL OF ALCOHOL AND DRUG USE

18. The authority citation for part 219 continues to read as follows:

Authority: 49 U.S.C. 20103, 20107, 20140, 21301, 21304, 21311; 28 U.S.C. 2461, note; and 49 CFR 1.49(m).

§§ 219.4 and 219.211 [Amended]

19. In the table below, for each section indicated in the left column, remove the words indicated in the middle column from wherever they appear in the section, and add the words indicated in the right column.

Section | Remove | Add
219.4(e)(2)(i) | Web site | Federal eRulemaking Portal.
219.4(e)(2)(i) | http://dms.dot.gov | http://www.regulations.gov.
219.4(e)(2)(i) | DOT electronic docket site | Federal Docket Management System electronic docket site.
219.4(e)(2)(iii) | Docket Management Facility; U.S. Department of Transportation, 400 Seventh Street, SW., Nassif Building, Room PL-401 | U.S. Department of Transportation, Docket Operations (M-30), West Building Ground Floor, Room W12-140, 1200 New Jersey Avenue, SE.
219.4(e)(2)(iv) | Room PL-401 on the plaza level of the Nassif Building, 400 Seventh Street, SW | Room W12-140 on the ground floor of the West Building, 1200 New Jersey Avenue, SE.
219.4(e)(3) | http://dms.dot.gov | http://www.regulations.gov.
219.211(e) | 400 Seventh Street, SW | 1200 New Jersey Avenue, SE.

§ 219. 4 [Amended]

20. Section 219.4 is further amended by removing paragraph (e)(2)(v).

PART 221—REAR END MARKING DEVICE—PASSENGER, COMMUTER AND FREIGHT TRAINS

21. The authority citation for part 221 continues to read as follows:

Authority: 49 U.S.C. 20103, 20107; 28 U.S.C. 2461, note; and 49 CFR 1.49.

Appendix A to Part 221—[Amended]

22. Appendix A is amended as follows:

a. In paragraph (a)(2)(i), remove the words “2100 Second Street SW.” and add, in their place, “1200 New Jersey Avenue, SE.”; and

b. In paragraph (d) remove the words “in triplicate”; and

c. In paragraph (d) remove the words “2100 Second Street SW.” and add, in their place, “1200 New Jersey Avenue, SE.”.

PART 224—REFLECTORIZATION OF RAIL FREIGHT ROLLING STOCK

23. The authority citation for part 224 continues to read as follows:

Authority: 49 U.S.C. 20103, 20107, 20148 and 21301; 28 U.S.C. 2461; and 49 CFR 1.49.

§§ 224.15 and 224.103 [Amended]

24. In the table below, for each section indicated in the left column, remove the words indicated in the middle column from wherever they appear in the section, and add the words indicated in the right column.

Section | Remove | Add
224.15(b)(2) | Three copies of each | Each.
224.15(b)(2) | 1120 Vermont Ave., NW | 1200 New Jersey Avenue, SE.
224.15(d)(2) | DOT Central Docket Management System, Nassif Building, Room PL-401, 400 Seventh Street, SW | U.S. Department of Transportation, Docket Operations (M-30), West Building Ground Floor, Room W12-140, 1200 New Jersey Avenue, SE.
224.15(d)(2) | Central Docket Management System and posted on its Web site at http://dms.dot.gov | Federal Docket Management System and posted on its Web site at http://www.regulations.gov.
224.103(b) | 1120 Vermont Ave., NW., Suite 7000 | 1200 New Jersey Avenue, SE., Washington, DC 20590.

PART 227—OCCUPATIONAL NOISE EXPOSURE

25. The authority citation for part 227 continues to read as follows:

Authority: 49 U.S.C. 20103, 20103 (note), 20701-20702; 49 CFR 1.49.

§§ 227.5, 227.103, and 227.111 [Amended]

26. In 49 CFR part 227, remove the words “1120 Vermont Ave., NW., Suite 700, Washington, DC 20005” and add, in their place, “1200 New Jersey Avenue, SE., Washington, DC 20590” in the following places:

a. Section 227.5, definition of “Sound level or Sound pressure level”;

b. Section 227.103(h); and

c. Section 227.111(b).

Appendix B to Part 227—[Amended]

27A. In Appendix B to part 227, remove the words “1120 Vermont Ave., Suite 700, Washington DC 20005” and add, in their place, “1200 New Jersey Avenue, SE., Washington, DC 20590.”

Appendixes D and E to Part 227—[Amended]

27B. In 49 CFR part 227, remove the words “1120 Vermont Ave., NW., Suite 700, Washington DC 20005” and add, in their place, “1200 New Jersey Avenue, SE., Washington, DC 20590”, in the following places:

a. Appendix D; and

b. Appendix E.

PART 228—HOURS OF SERVICE OF RAILROAD EMPLOYEES

28. The authority citation for part 228 continues to read as follows:

Authority: 49 U.S.C. 20103, 20107, 21101-21108; 28 U.S.C. 2461, note and 49 CFR 1.49.

§ 228.103 [Amended]

29. Section 228.103(c) is amended by removing the words “in triplicate with the Secretary, Railroad Safety Board, Federal Railroad Administration, Washington, DC 20590” and adding, in their place, “in accordance with the requirements of § 211.7(b)(1) of this chapter”.

PART 229—RAILROAD LOCOMOTIVE SAFETY STANDARDS

30. The authority citation for part 229 continues to read as follows:

Authority: 49 U.S.C. 20103, 20107, 20133, 20137-38, 20143, 20701-03, 21301-02, 21304; 28 U.S.C. 2401, note; and 49 CFR 1.49(c), (m).

§§ 229.205, 229.207, 229.209, 229.211, and 229.217 [Amended]

31. In the table below, for each section indicated in the left column, remove the words indicated in the middle column from wherever they appear in the section, and add the words indicated in the right column.

Section | Remove | Add
229.205(a)(1) | 1120 Vermont Ave., NW Suite 7000 | 1200 New Jersey Avenue, SE.
229.207(b) | 1120 Vermont Ave., NW | 1200 New Jersey Avenue, SE.
229.207(c) | 1120 Vermont Ave., NW | 1200 New Jersey Avenue, SE.
229.207(d) | 1120 Vermont Ave., NW | 1200 New Jersey Avenue, SE.
229.209(b) | 1120 Vermont Ave., NW | 1200 New Jersey Avenue, SE.
229.211(b)(2) | Central Docket Management System, Nassif Building, Room PL-401, 400 Seventh Street, SW | Docket Operations (M-30), West Building Ground Floor, Room W12-140, 1200 New Jersey Avenue, SE.
229.211(b)(2) | Central Docket Management System and posted on its Web site at http://dms.dot.gov | Federal Docket Management System and posted on its Web site at http://www.regulations.gov.
229.217(a) | 1120 Vermont Ave., NW., Suite 7000 | 1200 New Jersey Avenue, SE.

Appendix A to Part 229—[Amended]

32. The Editorial Note of Appendix A is amended by removing the words “400 7th St., SW.” and adding, in their place, “1200 New Jersey Avenue, SE.”.

Appendix H to Part 229—[Amended]

33. Appendix H is amended by removing the words “1120 Vermont Ave., NW., Suite 700, Washington, DC 20005” and adding, in their place, “1200 New Jersey Avenue, SE., Washington, DC 20590”.

PART 230—STEAM LOCOMOTIVE INSPECTION AND MAINTENANCE STANDARDS

34. The authority citation for part 230 continues to read as follows:

Authority: 49 U.S.C. 20103, 20107, 20702; 28 U.S.C. 2461, note; and 49 CFR 1.49.

§ 230.3 [Amended]

35. Section 230.3 introductory text is amended by removing the words “400 7th Street, SW” and adding, in their place, “1200 New Jersey Avenue, SE.”.

§ 230.6 [Amended]

36. Section 230.6(d) is amended by removing the words “400 Seventh Street” and adding, in their place, “1200 New Jersey Avenue, SE.”.

PART 232—BRAKE SYSTEM SAFETY STANDARDS FOR FREIGHT AND OTHER NON-PASSENGER TRAINS AND EQUIPMENT; END-OF-TRAIN DEVICES

37. The authority citation for part 232 continues to read as follows:

Authority: 49 U.S.C. 20102-20103, 20107, 20133, 20141, 20301-20303, 20306, 21301-21302, 21304; 28 U.S.C. 2461, note; and 49 CFR 1.49.

§§ 232.17, 232.103, 232.305, and 232.307 [Amended]

38. In the table below, for each section indicated in the left column, remove the words indicated in the middle column from wherever they appear in the section, and add the words indicated in the right column:

Section | Remove | Add
232.17(d)(1) | 400 7th Street, SW | 1200 New Jersey Avenue, SE.
232.17(f)(2) | 400 7th Street, SW | 1200 New Jersey Avenue, SE.
232.103(l) | 1120 Vermont Avenue, NW., Suite 7000 | 1200 New Jersey Avenue, SE.
232.305(a) | 1120 Vermont Avenue, NW., Suite 7000 | 1200 New Jersey Avenue, SE.
232.307(a) | 400 7th Street, SW | 1200 New Jersey Avenue, SE.

39. Section 232.17 is further amended by removing the words “in triplicate” from:

a. Paragraph (d)(1); and

b. Paragraph (f)(2).

40. Section 232.307(a) is further amended by removing the words “in triplicate”.

PART 235—INSTRUCTIONS GOVERNING APPLICATIONS FOR APPROVAL OF A DISCONTINUANCE OR MATERIAL MODIFICATION OF A SIGNAL SYSTEM OR RELIEF FROM THE REQUIREMENTS OF PART 236

41. The authority citation for part 235 continues to read as follows:

Authority: 49 U.S.C. 20103, 20107; 28 U.S.C. 2461, note; and 49 CFR 1.49.

§ 235.13 [Amended]

42. Section 235.13 is amended by:

a. Removing paragraph (b); and

b. Redesignating paragraphs (c) through (f) as paragraphs (b) through (e).

§ 235.14 [Amended]

43. Section 235.14 is amended by removing the words “Department of Transportation Central Docket Management System, Nassif Building, Room Pl-401, 400 Seventh Street, SW., Washington, DC 20590, and on the Docket Management System's Web site at http://dms.dot.gov” and adding, in their place, “U.S. Department of Transportation, Docket Operations (M-30), West Building Ground Floor, Room W12-140, 1200 New Jersey Avenue, SE., Washington, DC 20590, and on the Federal Docket Management System's Web site at http://www.regulations.gov”.

§ 235.20 [Amended]

44. Section 235.20(b) is amended by removing the words “The original and two copies of any protest” and adding, in their place, “Protests”.

PART 236—RULES, STANDARDS, AND INSTRUCTIONS GOVERNING THE INSTALLATION, INSPECTION, MAINTENANCE, AND REPAIR OF SIGNAL AND TRAIN CONTROL SYSTEMS, DEVICES, AND APPLIANCES

45. The authority citation for part 236 continues to read as follows:

Authority: 49 U.S.C. 20103, 20107, 20501-505; 28 U.S.C. 2461, note; and 49 CFR 1.49.

§§ 236.905 and 236.913 [Amended]

46. In 49 CFR part 236, remove the words “1120 Vermont Avenue, NW.” and add, in their place, “1200 New Jersey Avenue, SE.” in the following places:

a. Section 236.905(c)(1); and

b. Section 236.913(c)(1).

47. Section 236.905(c)(1) is further amended by removing the words “in triplicate”.

§ 236. 909 [Amended]

48. Section 236.909(d)(3)(i) is amended by removing the words “1120 Vermont Ave., NW., Suite 7000” and adding, in their place, “1200 New Jersey Avenue, SE.”.

§ 236. 917 [Amended]

49. Section 236.917(b)(1) is amended by removing the words “1120 Vermont Ave., NW.” and adding, in their place, “1200 New Jersey Avenue, SE.”

PART 238—PASSENGER EQUIPMENT SAFETY STANDARDS

50. The authority citation for part 238 continues to read as follows:

Authority: 49 U.S.C. 20103, 20107, 20133, 20141, 20302-20303, 20306, 20701-20702, 21301-21302, 21304; 28 U.S.C. 2461, note; and 49 CFR 1.49.

§§ 238.21, 238.203, 238.229, 238.230, 238.311, and 238.505 [Amended]

51. In the table below, for each section indicated in the left column, remove the words indicated in the middle column from wherever they appear in the section, and add the words indicated in the right column.

Section | Remove | Add
238.21(d)(2) | Three copies of each | Each.
238.21(d)(2) | 1120 Vermont Ave., NW | 1200 New Jersey Avenue, SE.
238.21(f)(2) | DOT Central Docket Management System, Nassif Building, Room Pl-401, 400 Seventh Street, SW | U.S. Department of Transportation, Docket Operations (M-30), West Building Ground Floor, Room W12-140, 1200 New Jersey Avenue, SE.
238.21(f)(2) | Central Docket Management System | Federal Docket Management System.
238.21(f)(2) | http://dms.dot.gov | http://www.regulations.gov.
238.203(e) | Three copies of each | Each.
238.203(e) | 1120 Vermont Ave | 1200 New Jersey Avenue, SE.
238.203(g)(2) | DOT Central Docket Management System, Nassif Building, Room Pl-401, 400 Seventh Street, SW | U.S. Department of Transportation, Docket Operations (M-30), West Building Ground Floor, Room W12B140, 1200 New Jersey Avenue, SE.
238.203(g)(2) | Central Docket Management System | Federal Docket Management System.
238.203(g)(2) | http://dms.dot.gov | http://www.regulations.gov.
238.229(j)(1)(i) | 1120 Vermont Ave., NW., Suite 7000 | 1200 New Jersey Avenue, SE.
238.230(c)(2) | 1120 Vermont Ave., NW., Suite 7000 | 1200 New Jersey Avenue, SE.
238.311(a) | 1120 Vermont Avenue, NW., Suite 7000 | 1200 New Jersey Avenue, SE.
238.505(a) | 1120 Vermont Ave | 1200 New Jersey Avenue, SE.
238.505(b)(2) | Three copies of each | Each.
238.505(b)(2) | 1120 Vermont Ave | 1200 New Jersey Avenue, SE.

Appendix B to Part 238—[Amended]

52. Paragraph (a) introductory text of Appendix B is amended by removing the words “1120 Vermont Ave., NW., Suite 7000” and adding, in their place, “1200 New Jersey Avenue, SE., Washington, DC 20590”.

PART 239—PASSENGER TRAIN EMERGENCY PREPAREDNESS

53. The authority citation for part 239 continues to read as follows:

Authority: 49 U.S.C. 20102-20103, 20105-20114, 20133, 21301, 21304, and 21311; 28 U.S.C. 2461, note; and 49 CFR 1.49(c), (g), (m).

§ 239.201 [Amended]

54. Section 239.201(a) is amended by removing the words “Mail Stop 25, 400 Seventh Street, SW.” and adding, in their place, “1200 New Jersey Avenue, SE., Mail Stop 25”.

PART 240—QUALIFICATION AND CERTIFICATION OF LOCOMOTIVE ENGINEERS

55. The authority citation for part 240 continues to read as follows:

Authority: 49 U.S.C. 20103, 20107, 20135, 21301, 21304, 21311; 28 U.S.C. 2461, note; and 49 CFR 1.49.

§§ 240.111, 240.403, 240.405, 240.407, and 240.411 [Amended]

56. In the table below, for each section indicated in the left column, remove the words indicated in the middle column from wherever they appear in the section, and add the words indicated in the right column.

Section | Remove | Add
240.111(d) | 400 Seventh Street, SW | 1200 New Jersey Avenue, SE.
240.403(b)(2) | 1120 Vermont Avenue, NW | 1200 New Jersey Avenue, SE.
240.405(d)(3) | 400 Seventh Street SW | 1200 New Jersey Avenue, SE.
240.407(b) | Department of Transportation Central Docket Management System, Nassif Building, Room Pl-401, 400 Seventh Street, SW. | U.S. Department of Transportation, Docket Operations (M-30), West Building Ground Floor, Room W12-140, 1200 New Jersey Avenue, SE.
240.407(b) | Central Docket Management System. | Federal Docket Management System
240.407(b) | http://dms.dot.gov | http://www.regulations.gov.
240.411(a) | 400 Seventh Street SW | 1200 New Jersey Avenue, SE.

57. Section 240.403 is amended by redesignating paragraphs (b)(3)(iv) through (v) as paragraphs (b)(3)(v) through (vi) and adding a new paragraph (b)(3)(iv) to read as follows:

§ 240.403 Petition requirements.

* * * * *

(b) * * *

(3) * * *

(iv) The petitioner's e-mail address (if available);

* * * * *

Appendix B to Part 240—[Amended]

58. Appendix B is amended by removing the words “400 Seventh Street, SW.” and adding, in their place, “1200 New Jersey Avenue, SE.”.

Appendix C to Part 240—[Amended]

59. Appendix C is amended by removing the words “400 Seventh Street, SW.” and adding, in their place, “1200 New Jersey Avenue, SE.”.

PART 241—UNITED STATES LOCATIONAL REQUIREMENT FOR DISPATCHING OF UNITED STATES RAIL OPERATIONS

60. The authority citation for part 241 continues to read as follows:

Authority: 49 U.S.C. 20103, 20107, 21301, 21304, 21311; 28 U.S.C. 2461, note; 49 CFR 1.49.

§ 241.7 [Amended]

61. Section 241.7(a)(2)(iii) is amended by removing the words “1120 Vermont Avenue, NW.,” and adding, in their place, “1200 New Jersey Avenue, SE., Mail”.

PART 244—REGULATIONS ON SAFETY INTEGRATION PLANS GOVERNING RAILROAD CONSOLIDATIONS, MERGERS, AND ACQUISITIONS OF CONTROL

62. The authority citation for part 244 continues to read as follows:

Authority: 49 U.S.C. 20103, 20107, 21301; 5 U.S.C. 553 and 559; 28 U.S.C. 2461, note; and 49 CFR 1.49.

§ 244.17 [Amended]

63. Section 244.17(a) is amended by removing the words “1120 Vermont Avenue, NW.” and adding, in their place, “1200 New Jersey Avenue, SE.”.

PART 245—[REMOVED AND RESERVED]

64. Remove and reserve part 245, consisting of §§ 245.1 through 245.303.

PART 256—FINANCIAL ASSISTANCE FOR RAILROAD PASSENGER TERMINALS

65. The authority citation for part 256 is revised to read as follows:

Authority: Sec. 4(i) of the Department of Transportation Act, 49 U.S.C. 5561-5568, as amended by (1) sec. 15 of the Amtrak Improvement Act of 1974, Public Law 93-496, 88 Stat. 1528; (2) sec. 13 of the Amtrak Improvement Act of 1975, Public Law 94-25, 89 Stat. 93; (3) sec. 706 of the Railroad Revitalization and Regulatory Reform Act of 1976, Publaw Law 94-210, 90 Stat. 125; and (4) sec. 219(a) of the Rail Transportation Improvement Act, Public Law 94-555, 90 Stat. 2629; and regulations of the Office of the Secretary of Transportation, 49 CFR 1.49(r).

§ 256.11 [Amended]

66. Section 256.11(f)(2) is amended by:

a. Removing the words “and two (2) copies”;

b. Removing the words “400 7th Street SW.” and adding, in their place, “1200 New Jersey Avenue, SE.”.

c. Removing the words “Each copy shall show the dates and signatures that appear in the original and shall be complete in itself.”

PART 260—REGULATIONS GOVERNING LOANS AND LOAN GUARANTEES UNDER THE RAILROAD REHABILITATION AND IMPROVEMENT FINANCING PROGRAM

67. The authority citation for part 260 continues to read as follows:

Authority: 45 U.S.C. 821, 822, 823; 49 CFR 1.49.

§ 260.31 [Amended]

68. Section 260.31(e) is amended by removing the words “1120 Vermont Ave., NW.” and adding, in their place, “1200 New Jersey Avenue, SE.”

PART 268—MAGNETIC LEVITATION TRANSPORTATION TECHNOLOGY DEPLOYMENT PROGRAM

69. The authority citation for part 268 continues to read as follows:

Authority: 49 U.S.C. 322; 23 U.S.C. 322; 49 CFR 1.49.

§ 268.13 [Amended]

70. Section 268.13 is amended by removing the words “400 Seventh Street, SW.” and adding, in their place, “1200 New Jersey Avenue, SE.” and by removing “Honorable Jolene M. Molitoris,”.

Issued in Washington, DC, on May 15, 2009.
Joseph Szabo,
Administrator, Federal Railroad Administration.

[FR Doc. E9-12039 Filed 5-26-09; 8:45 am]

BILLING CODE 4910-06-P